DEPARTMENT OF ENERGY

Federal Energy Regulatory Commission

[Docket No. CP00-183-000]

OkTex Pipeline Company; Notice of Application

April 21, 2000.

Take notice that on April 14, 2000, OkTex Pipeline Company (OkTex), 100 West Fifth Street, P.O. Box 871, Tulsa, Oklahoma 74102, filed an application in Docket No. CP00-183-000 pursuant to Section 7(c) of the Natural Gas Act seeking a certificate of public convenience and necessity to acquire certain pipeline facilities being abandoned by Kinder Morgan Interstate Gas Transmission, LLC (“KMIGT”), all as more fully set forth in the application which is on file with the Commission and open to public inspection.

OkTex states that the facilities it is acquiring from KMIGT consist of 52.5 miles of 20-inch pipeline located in Hemphill County, Texas, and Roger Mills, Custer and Dewey Counties, Oklahoma. It is explained that the facilities comprise the eastern portion of the Buffalo Wallow system and that OkTex intends to operate the facilities as part of its interstate pipeline system. OkTex states that the purchase price of the facilities is $700,000. In a companion filing, Docket No. CP00-174-000, KMIGT has requested permission to abandon facilities by sale to OkTex.

Any person desiring to be heard or to make any protests with reference to said application should on or before May 12, 2000, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken, but will not serve to make protestants parties to the proceeding. Any person wishing to become a party to a proceeding or to participate as a party in any hearing therein must file a motion to intervene in accordance with the Commission's Rules. Copies of this filing are on file with the Commission and are available for public inspection in the Public Reference Room. This filing may be viewed on the web at http://www.ferc.fed.us/online/rims.htm (call 202-208-2222 for assistance).

Take further notice that, pursuant to the authority contained in and subject to jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for OkTex to appear or be represented at the hearing.

David P. Boergers,
Secretary.

[FR Doc. 00-10470 Filed 4-26-00; 8:45 am]

BILLING CODE 6717-01-M